DEPARTMENT OF HOMELAND SECURITY

Coast Guard

33 CFR Part 100

[Docket Number USCG-2024-0359]

RIN 1625-AA08

Special Local Regulation; San Jacinto River, Houston, TX

AGENCY: Coast Guard, DHS.

ACTION: Final rule.

SUMMARY: The Coast Guard is establishing a special local regulation to provide for the safety of life on certain waters of the San Jacinto River, in Houston, TX. This regulation will be enforced during a high-speed boat race every third weekend in July. This regulation prohibits persons and vessels from being in the regulated areas unless authorized by the Captain of the Port Houston-Galveston or designated Coast Guard Patrol Commander.

DATES: This rule is effective without actual notice from July 26, 2024. For the purposes of enforcement, actual notice will be used from July 20, 2024, until July 26, 2024.

ADDRESSES: To view documents mentioned in this preamble as being available in the docket, go to https://www.regulations.gov, type USCG-2024-0359 in the search box and click “Search.” Next, in the Document Type column, select “Supporting & Related Material.”

FOR FURTHER INFORMATION CONTACT: If you have questions about this rulemaking, call or email Lieutenant Rudy Ortega, Sector Houston-Galveston Waterways Management Division, U.S. Coast Guard; telephone 713-398-5823, email houstonwwm@uscg.mil.

SUPPLEMENTARY INFORMATION:

I. Table of Abbreviations

CFR Code of Federal Regulations

COTP Captain of the Port Houston-Galveston

DHS Department of Homeland Security

FR Federal Register

NPRM Notice of proposed rulemaking

§ Section

U.S.C. United States Code

II. Background Information and Regulatory History

On April 18, 2024, an organization notified the Coast Guard that it will be conducting an annual high speed boat race every third weekend in July in the navigable waters of San Jacinto River, Houston, TX. The Captain of the Port Houston-Galveston (COTP) has determined that potential hazards associated with the power boat race will be a safety concern for anyone within the Pre-Stage Zone, Approach Zone, Course Run Zone, and Shut-Down Zone before, during, and after the scheduled event. In response, on June 3, 2024, the Coast Guard published a notice of proposed rulemaking (NPRM) titled Special Local regulation; San Jacinto River, Houston, TX (89 FR 55131). There we stated why we issued the NPRM and invited comments on our proposed regulatory action related to this boat race. During the comment period that ended July 18, 2024, we received 4 comments.

Under 5 U.S.C. 553(d)(3), the Coast Guard finds that good cause exists for making this rule effective less than 30 days after publication in the Federal Register. Delaying the effective date of this rule is impracticable because immediate action is needed to respond to the potential safety hazards associated with the power boat race being held on July 20 and July 21, 2024.

III. Legal Authority and Need for Rule

The Coast Guard is issuing this rule under authority in 46 U.S.C. 70041. The COTP has determined that potential hazards associated with the power boat race in San Jacinto River, Houston, TX, will be a safety concern for anyone within the Pre-Stage Zone, Approach Zone, Course Run Zone, and Shut-Down Zone before, during, and after the scheduled event. This rule is needed to protect personnel, vessels, and the marine environment in the navigable waters within these areas during the power boat race.

IV. Discussion of Comments, Changes, and the Rule

As noted above, we received four comments on our NPRM published July 3, 2024. One concern was related to environmental impact. However, during the environmental review it was determined that this event had minimal to no impact to the environment. The remaining comments raised concerns that are unrelated to the regulation and outside the scope of Coast Guard authority. There are no changes in the regulatory text of this rule from the proposed rule in the NPRM.

The COTP is establishing a special local regulation that will be enforced annually the third Saturday and Sunday of July. Annual notice of the exact dates and times of the effective period with respect to the event, the geographical area, and additional details, as needed, concerning the event will be published in local notices to mariners. The special local regulation will encompass five different zones to include the Pre-Stage Zone, Approach Zone, Course Run Zone, Shut-Down Zone, and the Spectator Zone as described below:

Pre-Stage Zone: This is the pre-staging area for participating vessels to line up. It will include all waters within 150 ft of 29°53′29.0148″ N, 095°06′39.4416″ W.

Approach Zone: 200 ft distance required for participating vessels to obtain the minimum 40 mph requirement for course entry. This will be a straight line to begin at approximately 29°53′27.3″ N, 95°06′42.6″ W and end at approximately 29°53′27.6″ N, 95°06′40.0″ W.

Course Run Zone: 600 ft distance where participating vessels will conduct their high-speed run. This will be a straight line to begin at approximately 29°53′27.6″ N, 95°06′40.0″ W and end at approximately 29°53′30.0″ N, 95°06′34.7″ W.

Shut-Down Zone: 900 ft distance where participating vessels will be allowed to slow their speeds back to an idle. This will be a straight line to begin at approximately 29°53′30.0″ N, 95°06′34.7″ W and end at approximately 29°53′34.3″ N, 95°06′24.1″ W.

Spectator Zone: All vessels that will be viewing the event will be required to stay within a designated area. The sponsor is responsible for monitoring the spectator zone and ensuring that all vessels within the area are anchored and remain in the area during all ongoing high-speed runs. The following coordinates are the approximate location of the Spectator Zone: 29°53′29.4″ N, 95°06′39.8″ W, thence to 29°53′28.5″ N, 95°06′39.6″ W, thence to 29°53′29.7″ N, 95°06′36.9″ W, thence to 29°53′30.4″ N, 95°06′37.2″ W.

No vessel or person will be permitted to enter the established zones without obtaining permission from the COTP, designated Coast Guard Patrol Commander, or designated representative.

The term “designated representative” means Coast Guard Patrol Commanders, including Coast Guard coxswains, petty officers, and other officers operating Coast Guard vessels, and Federal, state, and local officers designated by or assisting the Captain of the Port Houston-Galveston in the enforcement of the regulated areas.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, the rule has not been reviewed by the Office of Management and Budget (OMB).

This regulatory action determination is based on the size, location, duration, and time of day of this special local regulation. Vessel traffic will be able to safely transit around this safety zone, which would impact a small, designated area of the San Jacinto River, for a short duration, when vessel traffic is normally low. Moreover, the Coast Guard would issue a Broadcast Notice to Mariners about the zone via VHF-FM marine channel 16, and the rule would allow vessels to seek permission to enter the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule affects your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175 (Consultation and Coordination with Indian Tribal Governments) because it would not have a substantial direct effect on one or more Indian Tribes, on the relationship between the Federal Government and Indian Tribes, or on the distribution of power and responsibilities between the Federal Government and Indian Tribes. If you believe this proposed rule has implications for federalism or Indian Tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule would not result in such an expenditure, we do discuss the potential effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This rule involves a marine event and special local regulation lasting only 9 hours that would prohibit entry within 150 feet of the boat course. Normally such actions are categorically excluded from further review under paragraph L61 of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1

2. In § 100.801, amend Table 3, by adding item 8 to read as follows:

§ 100.801 Annual Marine Events in the Eighth Coast Guard District.

* * * * *

Table 3 of § 100.801—Sector Houston-Galveston Annual and Recurring Marine Events
* * * * * * *
8. 3rd Saturday and Sunday of July | Shootout on the San Jac Boat Race | San Jacinto River, Houston, TX | All waters within 150 feet of the following area: 29°53′29.0148″ N, 095°06′39.4416″ W; the Approach Zone comprised of a straight line to begin at approximately 29°53′27.3″ N, 95°06′42.6″ W and end at approximately 29°53′27.6″ N, 95°06′40.0″ W; the Course Run Zone comprised of a straight line to begin at approximately 29°53′27.6″ N, 95°06′40.0″ W and end at approximately 29°53′30.0″ N, 95°06′34.7″ W; the Shut-Down Zone comprised of a straight line to begin at approximately 29°53′30.0″ N, 95°06′34.7″ W and end at approximately 29°53′34.3″ N, 95°06′24.1″ W; and the Spectator Zone located within the following coordinates; 29°53′29.4″ N, 95°06′39.8″ W, thence to 29°53′28.5″ N, 95°06′39.6″ W, thence to 29°53′29.7″ N, 95°06′36.9″ W, thence to 29°53′30.4″ N, 95°06′37.2″ W.

Keith M. Donohue,
Captain, U.S. Coast Guard, Captain of the Port Sector Houston-Galveston.

[FR Doc. 2024-16342 Filed 7-25-24; 8:45 am]

BILLING CODE 9110-04-P